DEPARTMENT OF TRANSPORTATION

Federal Aviation Administration

Environmental Impact Statement: Juneau International Airport, Juneau Alaska

AGENCY: Federal Aviation Administration (FAA). DOT

ACTION: Notice of intent.

SUMMARY: The Federal Aviation Administration announces that it will prepare an Environmental Impact Statement (EIS) for implementation of projects proposed at the Juneau International Airport.

Responsible Official: Patricia A. Sullivan, Environmental Specialist, Federal Aviation Administration, Alaskan Region, Airports Division, 222 W. 7th Avenue, #14, Anchorage, AK 99513.

Written Comments: Ken Wallace, Project Manager, SWCA, 230 South 500 East, Suite 380, Salt Lake City, UT 84102. Email: Kwallace@swca.com.

FOR FURTHER INFORMATION CONTACT: Cathryn Collis, Compliance and Process Coordinator, SWCA, 230 South 500 East, Suite 380, Salt Lake City, UT 84102, phone (801) 322-4307. Email: ccollis@swca.com.

SUPPLEMENTARY INFORMATION: The Federal Aviation Administration will prepare and consider an EIS for implementation of proposed projects at the Juneau International Airport. Major projects proposed to be assessed in the EIS include creation of additional Runway Safety Area (RSA) centered about the runway that is 500 feet wide by the length of the runway plus 1,000 feet beyond each runway end; installation of a Medium Approach Lighting System with Rails (MALRS) to improve the approach to Runway 26; construction of a Snow Removal Equipment Building to provide needed storage space for the snow removal fleet; and construction of an additional Aviation Development Area to provide adequate facilities to accommodate the growing demand and tourism needs of helicopters and fixed wing aircraft.

These projects, along with other projects proposed to improve safety and efficiency and accommodate growing aviation demand, were identified in the Juneau International Airport Master Plan. The Juneau International Airport Board approved the Airport Master Plan on April 14, 1999. The Master Plan was accepted by FAA June 27, 2000.

In order to comply with NEPA, an Environmental Assessment (EA) was prepared and published in June 2000. Following the completion of the EA, the FAA determined that a more thorough EIS process is necessary for these proposed projects.

To ensure that the full range of issues related to the proposed projects are addressed and that all significant issues are identified, FAA intends to consult and coordinate with Federal, State and local agencies that have jurisdiction by law or have specific expertise with respect to any environmental impacts associated with the proposed projects. FAA will also solicit input from the public in a public scoping meeting, which will be held June 20, 2001, from 5:00 p.m. to 9:00 p.m. at Centennial Hall, Juneau, Alaska. In addition to providing input at the public scoping meetings, the public may submit written comments on the scope of the environmental study to the address identified in FOR.

FURTHER INFORMATION CONTACT. Comments should be submitted within 60 days of the publication of this Notice.

Issued in Anchorage, Alaska on May 11, 2001.
Barbara J. Johnson,
Acting Manager, Airports Division, AAL-600, Alaskan Region.

[FR Doc. 01-13796 Filed 5-31-01; 8:45 am]

BILLING CODE 4910-13-M